DEPARTMENT OF HOUSING AND URBAN DEVELOPMENT

[Docket No. FR-4914-N-06]

Mortgagee Review Board Administrative Actions Withdrawal of Approval for Recertification Noncompliance

AGENCY: Office of the Assistant Secretary for Housing-Federal Housing Commissioner, HUD.

ACTION: Notice.

SUMMARY: In compliance with section 202(c) of the National Housing Act, this notice advises of the cause and description of certain administrative actions taken by HUD's Mortgagee Review Board against HUD-approved mortgagees. This notice of administrative actions relates solely to the failure of Title I lenders and Title II mortgagees to submit an acceptable annual audited financial statement and/or payment of the annual fee in order to renew their FHA lender approval as part of the annual recertification process.

FOR FURTHER INFORMATION CONTACT: Phillip A. Murray, Director, Office of Lender Activities and Program Compliance, Room B-133-3214 L'Enfant Plaza, 451 Seventh Street, SW., Washington, DC 20410-8000, telephone: 202-708-1515. (This is not a toll-free number.) A Telecommunications Device for individuals who are hearing- or speech impaired (TTY) is available at 800-877-8339 (Federal Information Relay Service).

SUPPLEMENTARY INFORMATION: Section 202(c)(5) of the National Housing Act (added by section 142 of the Department of Housing and Urban Development Reform Act of 1989, Public Law 101-235, approved December 15, 1989), requires that HUD publish a description of, and the cause for, administrative actions against a HUD-approved mortgagee by the Department's Mortgagee Review Board. In compliance with the requirements of section 202(c)(5), this notice advises of administrative actions that have been taken by the Mortgagee Review Board from October 1, 2004 through March 31, 2005, related to the failure of Title I lenders and Title II mortgagees to submit an acceptable annual audited financial statement and/or payment of the annual recertification fee in order to renew their FHA lender approval as part of the annual recertification process.

Action: Withdrawal of HUD/FHA Title I lender approval and/or Title II mortgagee approval.

Cause: Failure to submit to the Department an acceptable annual audited financial statement, and/or remit the required annual recertification fee in order to renew their FHA lender approval as part of the annual recertification process.

Name | City | St
59 Title I Lenders and Loan Correspondents Terminated Between October 1, 2004 and March 31, 2005
Alabama Home Mortgage Lending | Birmingham | AL
Allied Finance Company Inc | Van Nuys | CA
Alosta Mortgage Inc | Glendora | CA
American Lending Resource Inc | Temecula | CA
American Residential Funding Inc | Costa Mesa | CA
American Union Home Loans | Downey | CA
Anchor Home Loans Unlimited Inc | Costa Mesa | CA
Avalon Mortgage Corporation | San Diego | CA
Brookside Mortgage LLC | Tulsa | OK
Budget Mortgage Bankers Ltd | Lake Success | NY
California Gold Mortgage Inc | Encino | CA
California Mortgage Loan Co | San Dimas | CA
Cambree Financial Inc | Torrance | CA
Capitol Federal Savings Bank | Tokepa | KS
Caribbean Financial Services Corp | Caguas | PR
Community Bank | Brockton | MA
Emerald Mortgage Corp | North Hills | CA
Excell Financial LLC | Portland | OR
Farwest Plus Inc | Lawndale | CA
Financial Partners Credit Union | Downey | CA
First City Capital of Nevada Inc | Las Vegas | NV
First Federal Bank | Hazleton | PA
First Preferred Mortgage Corp | Downey | CA
HCG North America LLC | Orange | CA
IMortgage Funding Corporation | San Diego | CA
International Home Capital Corp | Woodland Hills | CA
JT and T LLC | Tempe | AZ
Legacy Mortgage Inc | Plano | TX
Loan Cents Financial Services | North Charleston | SC
London Financial Group | Irvine | CA
Madison Mortgage Corporation | Smyrna | GA
MFS Investments Inc | Montebello | CA
Michael Kagan Inc | Westlake Village | CA
Nevada Brookside Mortgage Corp | Cerritos | CA
Norwest Home Improvement Inc | Concord | CA
Oakwood Acceptance Corporation LLC | Greensboro | NC
Oakwood Mortgage Investors Inc | Las Vegas | NV
Olympia Mortgage Corporation | Brooklyn | NY
Pacific Gold Mortgage Group LLC | Phoenix | AZ
Pacific Sun Mortgage Company Inc | Carlsbad | CA
Peoples First Community Bank | Panama City | FL
Platinum Holdings Inc | Covina | CA
Porter Financial Corp | Mission Hills | CA
Primestar Financial Inc | Carson | CA
Provision Mortgage Corporation | San Diego | CA
R and G Lending Inc | Cypress | CA
Realty Mortgage Alliance | Chino | CA
Realty Mortgage LLC | Virginia Beach | VA
Resource Capital Inc | Los Angeles | CA
Sara S Inc | Laguna Hills | CA
SLS Mortgage Inc | Sylmar | CA
Stewart National Mortgage Co Inc | San Diego | CA
Suburban Mortgage Incorporated | Phoenix | AZ
Taylor Chaparro and Co Inc | Mission Viejo | CA
Ultimate Funding Corp | Tustin | CA
Uniwest Mortgage Corp | San Diego | CA
Urban First Funding Corp | Lancaster | CA
World Financial Corp Inc | Puerto Nuevo | PR
181 Title II Mortgagees and Loan Correspondents Terminated Between October 1, 2004 and March 31, 2005
A C Global Capital Inc | Garland | TX
Accent Mortgage Services Inc | Alpharetta | GA
Ace Mortgage Inc | Ozone Park | NY
Acropolis Enterprise Inc | La Puente | CA
ADP Financial INC | Carmichael | CA
All Americans Fin Res Alliance Inc | Maitland | FL
Allied Finance Company Inc | Van Nuys | CA
Alosta Mortgage Inc | Glendora | CA
American Investment Team Inc | Woburn | MA
American Mortgage Lending Services Inc | Chicago | IL
American Strategic Income Port | Minneapolis | MN
America's Premiere Mortgage Company | Burton | MI
Amerimort Financial Corp | City of Industry | CA
Anchor Home Loans Unlimited Inc | Costa Mesa | CA
Anodyne Lending Inc | Santa Ana | CA
Arrow Service Corp Inc | Denver | CO
Avalon Funding Group Inc | Scottsdale | AZ
Bankers Mortgage Financial Corp | Lighthouse Point | FL
Beacon Financial Services Inc | Indianapolis | IN
Best Results Mortgage Corporation | Huntington Park | CA
Better Home Financial Inc | San Dimas | CA
Buffalo Federal Savings Bank | Buffalo | WY
California Gold Mortgage Inc | Encino | CA
California Mortgage Loan Co Inc | San Dimas | CA
Cambree Financial Inc | Torrance | CA
Caribbean Financial Services Corp | Caguas | PR
Cen Cal Mortgage Inc | Paso Robles | CA
Cianford Inc | Modesto | CA
CJM Mortgage Corp | Pompton Lakes | NJ
Colonial Mortgage Inc | Columbus | OH
Colorado Quality Lending LLC | Denver | CO
Community Bank | Brockton | MA
Consolidated Mortgage Plus Inc | Reynoldsburg | OH
Creative Mortgage Solutions Two | Tamarac | FL
Crosstowne Mortgage Corporation | Silver Spring | MD
CVK Enterprises Inc | Iron Mountain | MI
Dearborn Savings Assoc FA | Lawrenceburg | IN
Deluxe Mortgage LLC | Houston | TX
Denali Financial Services LP | Fayetteville | GA
Developers Mortgage Group | Las Vegas | NV
Devon Kay Capital LLC | Avon | CT
Donn R Steier Inc | Mammoth Lakes | CA
E Z Financial Services Inc | Berwyn | IL
Eagle Mortgage Company | Crown Point | IN
East Side Lending Inc | Milwaukee | WI
Emerald Mortgage Corp | North Hills | CA
Equity One Lenders Service Inc | Anaheim | CA
Everett Cooperative Bank | Everett | MA
Excell Financial LLC | Portland | OR
Fairmount Company | Beaverton | OR
Farwest Plus Inc | Lawndale | CA
Fidelity Capital Funding Inc | San Ramon | CA
First Federal Savings and Loan Assn Tx | Tyler | TX
First FIdelity Centers Inc | Tarzana | CA
First Fidelity Credit Corporation | Torrence | CA
First Fidelity Financial Inc | Newport Beach | CA
First Financial Home Loan | Miami | FL
First Independent Bank | Gallatin | TN
First Preferred Mortgage Corp | Downey | CA
First State Bank | Colorado Springs | CO
First State Financial Corporation | Newport Beach | CA
Five Star Funding Inc | Stockton | CA
Floridafirst Bank | Lakeland | FL
Four Points Mortgage Corporation | Riverside | CA
Freestand Financial Holding Corp | Phoenix | AZ
GMRC LLC | Lafayette | IN
Gold Coast Funding Inc | Irvine | CA
Grant Financial Services Inc | Oak Brook | IL
Haws Inc | Jupiter | FL
Hillcrest Financial Corp | Richardson | TX
Home Builders Mortgage Corp | Charleston | SC
Home Loans Direct Inc | Carlsbad | CA
Home Mortgage Group Inc | Alexandria | LA
Home Mortgagee Corp | Glen Ellyn | IL
Homelink Mortgage Inc | Kirkland | WA
Huntington Browne Mortgage Inc | Inglewood | CA
Imperial Mortgage Finance Corporation | Birmingham | AL
Inland Empire Funding Corp | Rancho Cucamonga | CA
Integrity Mortgage and Financial Inc | Denver | CO
Intense Mortgage Inc | Newport Beach | CA
International Millennium Association | Bell | CA
Interstate Net Bank | Cherry Hill | NJ
J Leichtman Financial Services | Los Angeles | CA
JT and T LLC | Tempe | AZ
Klamath First Federal Savings Ala | Klamath Falls | OR
Konhoff Capital LLC | Salt Lake City | UT
Lee and Jackson Finan Services | Camarillo | CA
Legacy Mortgage Corporation | Palos Heights | IL
Legend Mortgage Inc | Phoenix | AZ
Loan Cents Financial Services Inc | Summerville | SC
Loan Lines Inc | Tarzana | CA
Loan Originators Mortgage Corp | Covina | CA
Loans Unlimited Inc | Houston | TX
Lone Star Realty Investments Inc | Southlake | TX
Mairc Mortgage Corp | South Jordan | UT
Malta Service Corporation | Farmington | CT
Marquest Financial | Minneapolis | MN
MCM Holdings Inc dba Mtg Bankers of Fl | Miami | FL
Mechanics Cooperative Bank | Taunton | MA
Medallion Mortgage and Financial Ser LLC | Tampa | FL
MFS Investments Inc | Rosemead | CA
Michael Kagan Inc | Westlake Village | CA
Monterey Coast Mortgage Corp | Monterey | CA
Monumental Finance LLC | Lutherville | MD
Mortgage Associates Corporation | Plymouth | MI
Mortgage Concepts Inc | Canton | MI
Mortgage Made Easy Inc | Miami | FL
Mortgage Makers Inc | Scottsdale | AZ
Mortgage Processing Inc | Federickburg | VA
Mortgage Solutions Network LLC | Aurora | CO
Mortgages Done Wright Inc | Escalon | CA
National Mortgage Association | Oklahoma City | OK
Nationsbest Mortgage Corp | Orange | CA
Nationwide Discount Home Loans Inc | Rancho Cucamonga | CA
NDNJ Inc | Ramcho Palos Verdes | CA
Neustar Financial Services Inc | Overgaard | AZ
New Millennium Lending Inc | Houston | TX
Newwest Mortgage Company | Downey | CA
North Texas Lending LLC | Plano | TX
Oakwood Acceptance Corporation LLC | Greensboro | NC
Oasis Financial Services Inc | Redlands | CA
Old American Mortgage Inc | Murray | UT
Old Dominion Mortgage Inc | Charlottesville | VA
Osborne Nichols Hall and Associates LTD | Long Beach | NY
P M J K Inc | San Leandro | CA
Palm Beach Financial Network Inc | Jupiter | FL
Pittsburgh Home Savings | Pittsburgh | PA
Pittsfield Co-Operative Bank | Pittsfield | MA
Platinum Family of Companies Inc | Costa Mesa | CA
Platinum Holdings Inc | Covina | CA
Porter Financial Corporation | Mission Hills | CA
Portico Mortgage-Com Inc | Charlotte | NC
Preciosas Inc | Victorville | CA
Preferred Bank FSB | Houston | TX
Premiere Mortgage Inc | Scottsdale | AZ
Prime Star Financial Inc | Carson | CA
Providence Funding Corporation | Garden Grove | CA
Provident Mortgage Corporation | Hackensack | NJ
Quality Financial Services LC | Salt Lake City | UT
Queen City Federal Savings Bank | Virginia | MN
R and G Lending Inc | Cypress | CA
R K Mortgage Inc | Richfield | OH
Rapid Mortgage LLC | Rapid City | SD
Residential Mortgage Company | Youngstown | OH
Resource Capital Inc | Los Angeles | CA
Resource Lenders Inc | Fresno | CA
Ricardo Gerscovich Inc | Encino | CA
RNB Investments | Oakbrook Terrace | IL
Rock Creek Mortgage | Valencia | CA
Rushmore Financial | Modesto | CA
Ryan Mortgage Company Inc | Santa Rosa | CA
Second Federal Savings and Loan Assoc | Chicago | IL
Shamrock Corp | Carlsbad | CA
South Bay Equities Ltd | Brentwood | NY
Sparrow Mortgage Corp | Glendale | CA
Spectrum Global Finance Inc | Orlando | FL
State Financial Network Inc | Broomall | PA
Statewide Ventures | Grass Valley | CA
Stone Mountain Mortgage Inc | Tucker | GA
Stratford Mortgage Corp | Quinlan | TX
Sunrise Vista Mortgage Corp | Citrus Heights | CA
Texas Mortgage Professionals LLC | Houston | TX
Tiempo Mortgage LLC | Denver | CO
Timmaron Mortgage Group Inc | Dallas | TX
Titan Financial Services Inc | Hauppauge | NY
Total Financial Services Inc | Palm Desert | CA
Ultimate Funding Corp | Tustin | CA
United Bank of Absarokee NA | Absarokee | MT
United Capital Mortgage Corporation | Aurora | CO
United Concepts Lending Inc | Denver | CO
United Mortgage and Invest Corp | Baileys Crossroads | VA
United Mortgage Investors Inc | Decatur | GA
Valley Pacific Mortgage Corporation | Denver | CO
Vanguard Financial Ltd | Concord | CA
Walkford Funding Inc | Staten Island | NY
Westcoast Home Loan Inc | Chula Vista | CA
White Oak Mortgage Group LLC | Raleigh | NC
Wilson and Associates Mortgage Corp | Chicago | IL
Winfield Affiliated Mortgage LP | Naples | FL
Winton Savings and Loan Co | Cincinnati | OH
Yonkers Savings and Loan Assn | Yonkers | NY

Dated: June 10, 2005.
Frank L. Davis,
General Deputy Assistant Secretary for Housing-Deputy Federal Housing Commissioner.

[FR Doc. E5-3269 Filed 6-22-05; 8:45 am]

BILLING CODE 4210-27-P